DEPARTMENT OF HOMELAND SECURITY

Coast Guard

[USCG-2014-0941]

Port Access Route Study: In the Chukchi Sea, Bering Strait and Bering Sea

AGENCY: Coast Guard, DHS.

ACTION: Notice of study; request for comments.

SUMMARY: This study is a continuation of and an expansion of scope to the Port Access Route Study (PARS) the Coast Guard announced in 2010. Based on comments received from the 2010 notice the Coast Guard has developed a potential vessel routing system for the area. The Coast Guard requests comments on how consolidating vessel traffic into a defined vessel routing system may impact or benefit the region. The goal of the study is to help reduce the risk of marine casualties and increase the efficiency of vessel traffic in the region. The recommendations of the study may lead to future rulemaking action or appropriate international agreements.

DATES: Comments must be received on or before August 18, 2015.

ADDRESSES:

FOR FURTHER INFORMATION CONTACT: If you have questions on this notice of study, call or email LT Kody Stitz, Seventeenth Coast Guard District (dpw); telephone (907) 463-2270; email Kody.J.Stitz@uscg.mil or Mr. David Seris, Seventeenth Coast Guard District (dpw); telephone (907)463-2267; email David.M.Seris@uscg.mil. If you have questions on viewing or submitting material to the docket, call Cheryl F. Collins, Program Manager, Docket Operations, telephone 202-366-9826.

SUPPLEMENTARY INFORMATION:

Public Participation and Request for Comments

We encourage you to participate in this study by submitting comments and related materials. All comments received will be posted without change to http://www.regulations.gov and will include any personal information you have provided.

Comment submission: You may submit comments identified by docket number USCG-2014-0941 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

The Coast Guard will hold public meeting(s) if there is sufficient demand to warrant holding a meeting. You must submit a request for one on or before Month Day, Year (30 days from publish date) using one of the four methods specified under ADDRESSES. Please explain why you believe a public meeting would be beneficial. If we determine that a public meeting would aid in the study, we will hold a meeting at a time and place announced by a later notice in the Federal Register.

Definitions

The following definitions (except “Regulated Navigation Area”) are from the International Maritime Organization's (IMO's) publication “Ships' Routeing” Tenth Edition 2010 and should help you review this notice:

Area to be avoided (ATBA) means a routing measure comprising an area within defined limits in which either navigation is particularly hazardous or it is exceptionally important to avoid casualties and which should be avoided by all ships, or certain classes of ships.

Deep-water route means a route within defined limits, which has been accurately surveyed for clearance of sea bottom and submerged obstacles as indicated on the chart.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where ships must navigate with particular caution and within which the direction of traffic flow may be recommended.

Recommended route means a route of undefined width, for the convenience of ships in transit, which is often marked by centerline buoys.

Recommended track is a route which has been specially examined to ensure so far as possible that it is free of dangers and along which vessels are advised to navigate.

Regulated Navigation Area (RNA) means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation zone or separation line means a zone or line separating the traffic lanes in which ships are proceeding in opposite or nearly opposite directions; or separating a traffic lane from the adjacent sea area; or separating traffic lanes designated for particular classes of ship proceeding in the same direction.

Traffic lane means an area within defined limits in which one-way traffic is established. Natural obstacles, including those forming separation zones, may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, no anchoring areas, inshore traffic zones, roundabouts, precautionary areas, and deep-water routes.

Background and Purpose

Requirement for Port Access Route Studies

Under the Ports and Waterways Safety Act (PWSA) (33 U.S.C. 1223(c)), the Commandant of the Coast Guard may designate necessary fairways and traffic separation schemes (TSSs) to provide safe access routes for vessels proceeding to and from U.S. ports.

Port Access Route Study to Date

The Coast Guard announced a port access route study in the Federal Register on November 8, 2010 (75 FR 68568). The purpose of the PARS was to solicit public comments on whether a vessel routing system such as a fairway or TSS was needed and if it could increase vessel safety in the area. The 2010 PARS was limited geographically in scope to a section of water extending approximately 100 nautical miles north of the Bering Strait into the Chukchi Sea to approximately 30 nautical miles south of St. Lawrence Island in the Bering Sea. At that time the Coast Guard did not propose a specific vessel routing system, but instead sought more general comments about whether a vessel routing system was needed or advisable in the study area. The Coast Guard received twenty five comments, and after reviewing them, determined that a vessel route needed to be proposed so more specific comments and concerns could be gathered and evaluated before determining if a routing system would be beneficial. The Coast Guard further determined that the study area should include a larger geographic area than was initially studied before finalizing the study and publishing the results.

Vessel Routing Comments to Date

The Coast Guard received twenty five public comments during the open comment period associated with the 2010 announcement. Nearly all of the comments that addressed vessel routing were supportive of the Coast Guard creating and implementing some form of vessel routing measure in the area. Since no specific routing measure was proposed in 2010, the comments received did note that precise concerns and impacts could only be identified after a specific route or measure was proposed.

Reopening of the Comment Period

This Federal Register notice announces the Coast Guard's intent to continue the PARS started in 2010, expand the study area and release the Coast Guard's proposed vessel routing system for comment. The Coast Guard's goal of the study remains the same in that the study is focused on gathering factual and relevant information to aid the Coast Guard in reducing the risk of marine casualties and increasing the efficiency of vessel traffic in the region.

The study will assess whether the creation of a vessel routing system is advisable to increase the predictability of vessel movements, which may decrease the potential for collisions, oil spills, and other events that could threaten the marine environment.

Based on comments received to date there is a general sense that a designated traffic route could improve traffic predictability thereby reducing marine casualties and oil spills; however, a few comments received did note that a designated traffic route (depending on location) could adversely impact subsistence hunting, marine mammals and other wildlife more so than widely dispersed vessel traffic. Therefore, the Coast Guard puts forth a potential two-way route as a starting point for analyzing where to put a vessel traffic route should one be deemed needed and beneficial to the region.

The Coast Guard will analyze vessel traffic density, agency and stakeholder experience in vessel traffic management, navigation, ship handling, the effects of weather, impacts to subsistence hunting, impacts to marine mammals and other wildlife concerns into the decision making process of the study. We encourage you to participate in the study process by submitting comments in response to this notice.

The expanded study area is described as an area bounded by a line connecting the following geographic positions:

• 67°30′ N, 168°58′37″ W;

• 67°30′ N, 167°30′ W;

• 54°50′ N, 164°40′ W;

• 54°03′ N, 166°25′ W;

• 63°20′ N, 173°43′ W; thence following the Russian Federation/United States maritime boundary line to the first geographical position.

The proposed ship routing measures are described as follows:

(1) A four nautical mile wide, two-way route extending from Unimak Pass in the Aleutian Islands that proceeds Northward through the Bering Sea and Bering Strait before terminating in the Chukchi Sea.

(2) A four nautical mile wide, two-way route extending from a location North of the Western side of St. Lawrence Island and near the US/Russian Federation maritime border, then proceeding Northeast to a junction with the first two way route located to the West of King Island.

(3) A total of four precautionary areas, each circular and 8 nautical miles wide in diameter. Three of these precautionary areas will be located at the starting/ending points of the two-way routes, and the fourth will be located at the junction of the recommended two-way routes.

See the ADDRESSES section for where to obtain a copy of the chart showing the exact location of the proposed route.

Timeline, Study Area, and Process of this PARS: The Seventeenth Coast Guard District will conduct this PARS. The study will continue upon publication of this notice and may take 24 months to complete.

We will publish the results of the PARS in the Federal Register. It is possible that the study may validate the status quo (no routing measures) and conclude that no changes are necessary. It is also possible that the study may recommend one or more changes to enhance navigational safety and the efficiency of vessel traffic management. The recommendations may lead to future rulemakings or appropriate international agreements.

Schematic of proposed vessel routing system: A chart showing the Coast Guard's proposed two-way route can be downloaded from http://www.regulations.gov, type “USCG-2014-0941” into the search bar and click search, next to the displayed search results click “Open Docket Folder”, which will display all comments and documents associated with this docket.

Dated: February 3, 2015.
D.B. Abel,
Rear Admiral, U.S. Coast Guard, Commander, Seventeenth Coast Guard District.

[FR Doc. 2015-03332 Filed 2-18-15; 8:45 am]

BILLING CODE 9110-04-P